DEPARTMENT OF COMMERCE

National Oceanic and Atmospheric Administration

RIN 0648-XA172

Marine Mammals; File No. 15453

AGENCY: National Marine Fisheries Service (NMFS), National Oceanic and Atmospheric Administration (NOAA), Commerce.

ACTION: Notice; issuance of permit.

SUMMARY: Notice is hereby given that a permit has been issued to the Waikiki Aquarium, 2777 Kalakaua Avenue, Honolulu, HI 96815 (Dr. Andrew Rossiter, Responsible Party), to conduct research on and enhancement of captive Hawaiian monk seals (Monachus schauinslandi).

ADDRESSES: The permit and related documents are available for review upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Boulevard, Room 1110, Honolulu, HI 96814-4700; phone (808) 944-2200; fax (808) 973-2941.

FOR FURTHER INFORMATION CONTACT: Amy Sloan or Jennifer Skidmore, (301)427-8401.

SUPPLEMENTARY INFORMATION: On January 27, 2011, notice was published in the Federal Register (76 FR 4867) that a request for a permit to conduct research on and enhancement of the species identified above had been submitted by the above-named applicant. On May 24, 2011, notice was published in the Federal Register (76 FR 30109) that a request to amend the application had been submitted by the applicant to increase the number of seals to be maintained under the proposed permit (from two to three seals). The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 15453 authorizes the Waikiki Aquarium to maintain in captivity up to three non-releasable Hawaiian monk seals for research and enhancement purposes. Research includes (1) a long-term study on the digestive efficiency of captive seals; and (2) a post-vaccination antibody response study using West Nile virus and canine distemper virus vaccinations. The seals will be displayed to the public incidental to the research program, and the Waikiki Aquarium provides daily public narrations and educational graphics about the Hawaiian monk seal. The permit is valid for five years from the date of issuance.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: April 30, 2012.
Tammy C. Adams,
Acting Chief, Permits and Conservation Division, Office of Protected Resources, National Marine Fisheries Service.

[FR Doc. 2012-11523 Filed 5-10-12; 8:45 am]

BILLING CODE 3510-22-P